DEPARTMENT OF ENERGY

Federal Energy Regulatory Commission

Combined Notice of Filings #2

Take notice that the Commission received the following electric rate filings:

Docket Numbers: ER10-2290-005.

Applicants: Avista Corporation.

Description: Fourth Amendment to June 30, 2016 Triennial Market Power Update for the Northwest Region of Avista Corporation.

Filed Date: 6/20/17.

Accession Number: 20170620-5097.

Comments Due: 5 p.m. ET 7/11/17.

Docket Numbers: ER10-2507-013.

Applicants: Westar Energy, Inc.

Description: Notice of Non-Material Change in Status of Westar Energy, Inc.

Filed Date: 6/20/17.

Accession Number: 20170620-5091.

Comments Due: 5 p.m. ET 7/11/17.

Docket Numbers: ER14-225-004.

Applicants: New Brunswick Energy Marketing Corporation.

Description: Second Supplement to December 22, 2016 Triennial Market Power Update for the Northeast Region of New Brunswick Energy Marketing Corporation.

Filed Date: 6/20/17.

Accession Number: 20170620-5102.

Comments Due: 5 p.m. ET 7/11/17.

Docket Numbers: ER17-1869-000.

Applicants: Southwest Power Pool, Inc.

Description: § 205(d) Rate Filing: 607R31 Westar Energy, Inc. NITSA NOA to be effective 6/1/2017.

Filed Date: 6/20/17.

Accession Number: 20170620-5028.

Comments Due: 5 p.m. ET 7/11/17.

Docket Numbers: ER17-1870-000.

Applicants: Southwest Power Pool, Inc.

Description: § 205(d) Rate Filing: 2562R5 Kansas Municipal Energy Agency NITSA and NOA to be effective 9/1/2017.

Filed Date: 6/20/17.

Accession Number: 20170620-5076.

Comments Due: 5 p.m. ET 7/11/17.

Docket Numbers: ER17-1871-000.

Applicants: Bayshore Solar B, LLC.

Description: Baseline eTariff Filing: Bayshore Solar B, LLC MBR Tariff to be effective 8/20/2017.

Filed Date: 6/20/17.

Accession Number: 20170620-5077.

Comments Due: 5 p.m. ET 7/11/17.

Docket Numbers: ER17-1872-000.

Applicants: New York Independent System Operator, Inc., Niagara Mohawk Power Corporation.

Description: § 205(d) Rate Filing: 205 Bethlehem LGIA SA 2341 among NYISO, NMPC, PSEG to be effective 6/7/2017.

Filed Date: 6/20/17.

Accession Number: 20170620-5083.

Comments Due: 5 p.m. ET 7/11/17.

Docket Numbers: ER17-1873-000.

Applicants: Public Service Company of Colorado.

Description: § 205(d) Rate Filing: PSCo-WAPA-Brlngtn Bndry Mtr-402-0.1.0 to be effective 6/21/2017.

Filed Date: 6/20/17.

Accession Number: 20170620-5107.

Comments Due: 5 p.m. ET 7/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2017.
Nathaniel J. Davis, Sr.,
Deputy Secretary.

[FR Doc. 2017-13267 Filed 6-23-17; 8:45 am]

BILLING CODE 6717-01-P